DEPARTMENT OF COMMERCE

International Trade Administration

United States Travel and Tourism Promotion Advisory Board; Notice of Open Meeting

AGENCY: International Trade Administration, Department of Commerce.

ACTION: Notice of open meeting.

Dates: October 26, 2004.

Time: 10 a.m.-1 p.m.

Place: Disney's Grand Floridian Resort and Spa, Salon 6, Grand Floridian Convention Center, 4401 Floridian Way, Lake Buena Vista, Florida 32830-1000. (The Convention Center is adjacent to the hotel.)

SUMMARY: The United States Travel and Tourism Promotion Advisory Board (Board) will hold a Board meeting on October 26, 2004, at the Grand Floridian Convention Center (adjacent to Disney's Grand Floridian Resort and Spa).

The Board will discuss the updated design and pending development and implementation plans of an international marketing and advertising campaign, which seeks to encourage individuals from the United Kingdom to travel to the United States for the express purpose of engaging in tourism. The meeting will be open to the public. Time will be permitted for public comment. To sign up for public comment, please contact Julie Heizer by 5 p.m. e.d.t. Wednesday, October 20, 2004. She may be contacted at U.S. Department of Commerce, 1401 Constitution Avenue, NW., Room 7025, Washington, DC 20230; via fax at (202) 482-2887; or, via e-mail at promotion@tinet.ita.doc.gov.

Written comments concerning Board affairs are welcome any time before or after the meeting. Written comments should be directed to Julie Heizer. Minutes will be available within 90 days of this meeting.

The Board is mandated by Public Law 108-7, section 210. As directed by Public Law 108-7, section 210, the Secretary of Commerce shall design, develop and implement an international advertising and promotional campaign, which seeks to encourage individuals to travel to the United States. The Board shall recommend to the Secretary of Commerce the appropriate coordinated activities for funding. This campaign shall be a multi-media effort that seeks to leverage the Federal dollars with contributions of cash and in-kind products unique to the travel and tourism industry. The Board was chartered in August of 2003 and will expire on August 8, 2005.

For further information, phone Julie Heizer, Office of Travel and Tourism Industries (OTTI), International Trade Administration, U.S. Department of Commerce at (202) 482-0140. This meeting is physically accessible to people with disabilities. Requests for sign language interpretation or other auxiliary aids should be directed to OTTI.

Dated: September 30, 2004.
Julie Heizer,
Deputy Director for Industry Relations, Office of Travel and Tourism Industries.

[FR Doc. E4-2500 Filed 10-5-04; 8:45 am]

BILLING CODE 3510-DS-P